DEPARTMENT OF THE INTERIOR

National Park Service

National Register of Historic Places; Notification of Pending Nominations and Related Actions

Nominations for the following properties being considered for listing or related actions in the National Register were received by the National Park Service before January 13, 2007. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by February 13, 2007.

John W. Roberts,
Acting Chief, National Register/National Historic Landmarks Program.

Arkansas

Cross County

Mt. Zion Methodist Episcopal Church South Cemetery, Approx. 2.5 mi. SE. of Vanndale on Cty, Rd. 367, Vanndale, 07000055

Pulaski County

Robinson, Joseph Taylor, Memorial Auditorium, (New Deal Recovery Efforts in Arkansas MPS) 414 W. Markham, Little Rock, 07000056

Florida

Flagler County

Vocational Agriculture Building, (Florida's New Deal Resources MPS) 1001 E. Howe St., Bunnell, 07000058

Palm Beach County

Northboro Park Historic District, Bounded by 40th N., Flagler Dr., 36th St. and Broadway, West Palm Beach, 07000059

St. Johns County

Hastings Community Center, 401 N. Main St., Hastings, 07000057

Illinois

Cook County

Continental and Commercial National Bank, 208 S. LaSalle, Chicago, 07000064

Home Bank and Trust Company, 1200 N. Ashland Ave., Chicago, 07000061

Silhan, Mr. Robert, House, 3728 S. Cuyler Ave., Berwyn, 07000062

Montgomery County

Belevidere Cafe, Motel and Gas Station, (Route 66 through Illinois MPS), 817 Old Rte 66, Litchfield, 07000060

Louisiana

Beauregard Parish

Hudson River Lumber Company General Manager's House, 411 S. Washington Ave., DeRidder, 07000068

Sills House, 211 W. Fourth St., DeRidder, 07000067

Toy House, 205 W. Fourth St., DeRidder, 07000066

Calcasieu Parish

Muller's Department Store, 700 Ryan St., Lake Charles, 07000069

New York

New York County

Wall Street Historic District, Roughly bounded by Cedar St. and Maiden's Ln., Pearl St., Bridge and S. William St., and Greenwich St. and Trinity PL., New York, 07000063

North Carolina

Hertford County

Brown, Wiley and Jane Vann, House, NC 1108, 0.5 mi. N. of NC 561, Union, 07000073

Ohio

Cuyahoga County

Baker Motor Vehicle Company Building, 7100-7122 Euclid Ave., Cleveland, 07000071

Cleveland Warehouse Historic District (Boundary Increase), 1384-1410 West 10th St., Cleveland, 07000070

Superior Avenue Historic District, 1860-2553 Superior Ave., Cleveland, 07000072

Ross County

Walke, Anthony, and Susan Cardinal, House, 381 Western Ave., Chillicothe, 07000065

Pennsylvania

Clarion County

Foxburg Country Club and Golf Course, 369 Harvey Rd., Foxburg, 07000076

South Carolina

Bamberg County

Bamberg Post Office, 11955 Heritage Hwy., Bamberg, 07000074

Darlington County

Dove Dale, Address Restricted, Darlington, 07000075

Utah

Carbon County

Verde Homestead, 233 200 East, Helper, 07000079

Davis County

Mills—Hancock House, (Centerville MPS), 571 S. 400 West, Centerville, 07000077

Salt Lake County

Copperton Community Methodist Church, 410 E. Hillcrest Rd., Copperton, 07000080

Evergreen Avenue Historic District, Roughly bounded by Evergreen Ave., 2300 East, 3300 South and 2700 East, East Mill Creek, 07000081

Sandy Historic District, (Sandy City MPS), Roughly bounded by State St. 9000 South, 700 East and Pioneer Ave., Sandy, 07000084

Weber County

Dumke, John F., and Lillia, House, 1607 Kiesel Ave., Ogden, 07000078

Virginia

Loudoun County

Locust Grove, 200 Locust Grove Dr., Purcellville, 07000083

Staunton Independent City

Western State Hospital (Boundary Increase), 301 Greenville Ave., SE. Corner of VA 11 and VA 250, Staunton, (Independent City), 07000082

Requests for removals has been made for the following resources:

Utah

Carbon County

Bruno, Giacomo and Maria, House and Farmstead, 524 N. Main St., Helper, 02000506

Iron County

Hunter, Joseph S., House, 86 E. Center St., Cedar City, 82004126

Salt Lake County

Bonnyview Elementary School, (Murray City, Utah MPS), 4984 S. 300 W., Murray, 01000473

Redman Van and Storage Company Building, (Sugar House Business District MPS), 1240 East 2100 South, Salt Lake City, 03000635

Shupe-Williams Candy Company Factory, 2605 Wall Ave., Ogden, 78002716

[FR Doc. E7-1295 Filed 1-26-07; 8:45 am]

BILLING CODE 4312-50-P